DEPARTMENT OF COMMERCE

National Oceanic and Atmospheric Administration

RIN 0648-XA242

Fisheries of the South Atlantic and Gulf of Mexico; South Atlantic Fishery Management Council; Public Meeting

AGENCY: National Marine Fisheries Service (NMFS), National Oceanic and Atmospheric Administration (NOAA), Commerce.

ACTION: Notice of a public meeting.

SUMMARY: The South Atlantic Fishery Management Council (SAFMC) will hold a meeting of its Scientific and Statistical Committee (SSC) to review fishery management plan (FMP) amendments under development, review stock assessments of spiny lobster and Goliath grouper, and discuss data available for supporting fishing level recommendations. The meeting will be held in North Charleston, SC.

DATES: The meeting will be held April 5-7, 2011. See SUPPLEMENTARY INFORMATION.

ADDRESSES: The meeting will be held at the Crowne Plaza Hotel, 4831 Tanger Outlet Boulevard, North Charleston, SC 29418; telephone: (843) 744-4422; fax: (843) 744-4472.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: Under the Magnuson-Stevens Reauthorized Act, the SSC is the body responsible for reviewing the Council's scientific materials. The SSC will discuss several FMP amendments, recently completed assessments for spiny lobster and Goliath grouper, and review data to support fishing level recommendations.

Meeting Schedule

April 5, 2011, 9 a.m.-6 p.m.

April 6, 2011, 9 a.m.-6 p.m.

April 7, 2011, 9 a.m.-3 p.m.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 3 business days prior to the meeting.

Dated: February 23, 2011.
Tracey L. Thompson,
Acting Director, Office of Sustainable Fisheries, National Marine Fisheries Service.

[FR Doc. 2011-4337 Filed 2-25-11; 8:45 am]

BILLING CODE 3510-22-P